DEPARTMENT OF THE INTERIOR

National Park Service

Official Trail Marker for the Star-Spangled Banner National Historic Trail

AGENCY: National Parks Service, Interior.

ACTION: Official Insignia, Designation.

Authority: National Trails System Act, 16 U.S.C. 124(a) and 1246(c) and Protection of Official Badges, insignia, etc. in 18 U.S.C. 701.

SUMMARY: This notice issues the official trail marker insignia of the Star-Spangled Banner National Historic Trail. The insignia for this trail was completed in August 2008 after the Trail was designated. It first came into public use in 2008. The National Park Service uses this insignia to mark the Trail's route. This publication accomplishes the official designation of the insignia in use by the National Park Service.

SUPPLEMENTARY INFORMATION: The primary author of this document is John Maounis, Superintendent, Star-Spangled Banner National Historic Trail. The insignia depicted below is prescribed as the official trail marker for the Star-Spangled Banner National Historic Trail, administered by the National Park Service, Chesapeake Bay Office, Annapolis, Maryland. Authorization for use of this trail marker is controlled by the administrator of the Trail.

In making this prescription, notice is hereby given that whoever manufactures, sells or possesses these insignia or any colorable imitation thereof, or photographs or prints or in any other manner makes or executes any engraving, photograph or print, or impression in the likeness of this insignia, or any colorable imitation thereof, without written authorization from the United States Department of the Interior is subject to the penalty provisions of section 701 of Title 18 of the United States Code.

FOR FURTHER INFORMATION CONTACT: John Maounis, Star-Spangled Banner National Historic Trail, National Park Service, 410 Severn Avenue, Suite 314, Annapolis, MD 21403, 410-260-2473.

Dated: May 13, 2010.
John Maounis,
Superintendent, Star-Spangled Banner National Historic Trail.

[FR Doc. 2010-15727 Filed 6-28-10; 8:45 am]

BILLING CODE P